DEPARTMENT OF ENERGY

Federal Energy Regulatory Commission

Combined Notice of Filings #1

Take notice that the Commission received the following electric corporate filings:

Docket Numbers: EC13-137-000.

Applicants: Mojave Solar LLC.

Description: Application for Authorization under Section 203 of the Federal Power Act of Mojave Solar LLC for the Disposition of Jurisdictional Facilities.

Filed Date: 8/19/13.

Accession Number: 20130819-5150.

Comments Due: 5 p.m. E.T. 9/9/13.

Take notice that the Commission received the following electric rate filings:

Docket Numbers: ER12-550-002.

Applicants: Southwest Power Pool, Inc.

Description: Order 719 Compliance—Attachment AE, Section 4.1.2 to be effective 3/1/2014.

Filed Date: 8/19/13.

Accession Number: 20130819-5120.

Comments Due: 5 p.m. E.T. 9/9/13.

Docket Numbers: ER13-103-003.

Applicants: California Independent System Operator Corporation.

Description: 2013-08-20_Order 1000 Second Compliance to be effective 10/1/2013.

Filed Date: 8/20/13.

Accession Number: 20130820-5056.

Comments Due: 5 p.m. E.T. 9/19/13.

Docket Numbers: ER13-1605-001.

Applicants: NV Energy, Inc.

Description: Transmission Rate Filing—Attachment H to be effective 1/1/2014.

Filed Date: 8/20/13.

Accession Number: 20130820-5000.

Comments Due: 5 p.m. E.T. 9/10/13.

Docket Numbers: ER13-1906-001.

Applicants: Guttman Energy Inc.

Description: Original Volume No. 1 to be effective 8/15/2013.

Filed Date: 8/19/13.

Accession Number: 20130819-5116.

Comments Due: 5 p.m. E.T. 9/9/13.

Docket Numbers: ER13-2191-000.

Applicants: Dominion Energy Manchester Street, Inc.

Description: Compliance Filing—Amended Cert of Concurrence Chg to DEMI to be effective 8/19/2013.

Filed Date: 8/19/13.

Accession Number: 20130819-5103.

Comments Due: 5 p.m. E.T. 9/9/13.

Docket Numbers: ER13-2192-000.

Applicants: California Independent System Operator Corporation.

Description: 2013-08-19_RDRR_Compliance to be effective 4/1/2014.

Filed Date: 8/19/13.

Accession Number: 20130819-5130.

Comments Due: 5 p.m. E.T. 9/9/13.

Docket Numbers: ER13-2193-000.

Applicants: PJM Interconnection, L.L.C.

Description: Original Service Agreement No. 3630; Queue No. Y3-036 to be effective 7/18/2013.

Filed Date: 8/19/13.

Accession Number: 20130819-5131.

Comments Due: 5 p.m. E.T. 9/9/13.

Docket Numbers: ER13-2194-000.

Applicants: PJM Interconnection, L.L.C.

Description: Queue Position Y3-037; Original SA No. 3629 to be effective 7/18/2013.

Filed Date: 8/19/13.

Accession Number: 20130819-5132.

Comments Due: 5 p.m. E.T. 9/9/13.

Docket Numbers: ER13-2195-000.

Applicants: Dominion Energy Brayton Point, LLC.

Description: Compliance Filing—Amended Cert of Concurrence Chg to DEMI to be effective 8/19/2013.

Filed Date: 8/19/13.

Accession Number: 20130819-5133.

Comments Due: 5 p.m. E.T. 9/9/13.

Docket Numbers: ER13-2196-000.

Applicants: Pacific Gas and Electric Company.

Description: Notice of Termination of North Star Solar E&P Agreement to be effective 7/31/2013.

Filed Date: 8/20/13.

Accession Number: 20130820-5002.

Comments Due: 5 p.m. E.T. 9/10/13.

Docket Numbers: ER13-2197-000.

Applicants: Southwest Power Pool, Inc.

Description: Notice of Cancellation of Network Integration Transmission Service Agreement and Network Operating Agreement of Southwest Power Pool, Inc.

Filed Date: 8/19/13.

Accession Number: 20130819-5157.

Comments Due: 5 p.m. E.T. 9/9/13.

Docket Numbers: ER13-2198-000.

Applicants: Southwest Power Pool, Inc.

Description: Notice of Cancellation of Network Integration Transmission Service Agreement and Network Operating Agreement of Southwest Power Pool, Inc.

Filed Date: 8/20/13.

Accession Number: 20130820-5014.

Comments Due: 5 p.m. E.T. 9/10/13.

Docket Numbers: ER13-2199-000.

Applicants: Allegany Generating Station LLC.

Description: Baseline new to be effective 9/19/2013.

Filed Date: 8/20/13.

Accession Number: 20130820-5033.

Comments Due: 5 p.m. E.T. 9/10/13.

Docket Numbers: ER13-2200-000.

Applicants: Northern Indiana Public Service Company.

Description: Filing of Amendment to CIAC Agreement to be effective 8/21/2013.

Filed Date: 8/20/13.

Accession Number: 20130820-5034.

Comments Due: 5 p.m. E.T. 9/10/13.

Docket Numbers: ER13-2201-000.

Applicants: Northern Indiana Public Service Company.

Description: CIAC Agreement Under Wabash Valley Interconnection Agreement to be effective 8/21/2013.

Filed Date: 8/20/13.

Accession Number: 20130820-5040.

Comments Due: 5 p.m. E.T. 9/10/13.

Docket Numbers: ER13-2202-000.

Applicants: Midcontinent Independent System Operator, Inc.

Description: 08-20-13 Attach P SMEPA GFA to be effective 12/19/2013.

Filed Date: 8/20/13.

Accession Number: 20130820-5057.

Comments Due: 5 p.m. E.T. 9/10/13.

Docket Numbers: ER13-2203-000.

Applicants: Dominion Retail, Inc.

Description: Dominion Retail, Inc. submits tariff filing per 35: Compliance—Amend Cert of Concurrence Chg to DEMI to be effective 8/21/2013.

Filed Date: 8/20/13.

Accession Number: 20130820-5068.

Comments Due: 5 p.m. E.T. 9/10/13.

Docket Numbers: ER13-2204-000.

Applicants: Dominion Energy Kewaunee, Inc.

Description: Dominion Energy Kewaunee, Inc. submits tariff filing per 35: Compliance Filing—Amended Cert of Concurrence Chg to DEMI to be effective 8/21/2013.

Filed Date: 8/20/13.

Accession Number: 20130820-5070.

Comments Due: 5 p.m. E.T. 9/10/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 20, 2013.
Nathaniel J. Davis, Sr.,
Deputy Secretary.

[FR Doc. 2013-20863 Filed 8-26-13; 8:45 am]

BILLING CODE 6717-01-P